DEPARTMENT OF ENERGY

Federal Energy Regulatory Commission

[Docket No. RM01-8-009]

Revised Public Utility Filing Requirements for Electric Quarterly Reports

Issued March 3, 2008.

AGENCY: Federal Energy Regulatory Commission, Department of Energy.

ACTION: Notice Seeking Comments on Proposed Revisions to Electric Quarterly Report (EQR) Data Dictionary.

SUMMARY: In this notice, the Federal Energy Regulatory Commission (Commission) proposes to revise the EQR Data Dictionary to clarify the requirement to report all ancillary service transactions, and invites comments on this proposal. This proposal is being made to reflect the Commission's decision in Order No. 697 that information about third party sales of ancillary services at market-based rates should be reported in EQR filings, rather than being reported on a separate OASIS-like Internet site. If adopted, this proposal will make reporting this information less burdensome and more accessible.

DATES: Comments on the proposal are due April 10, 2008.

ADDRESSES: You may submit comments on the proposal, identified by Docket No. RM01-8-009, by one of the following methods:

• Agency Web Site: http://www.ferc.gov. Follow the instructions for submitting comments via the eFiling link found in the Comment Procedures Section of the preamble.

• Mail: Commenters unable to file comments electronically must mail or hand deliver an original and 14 copies of their comments to the Federal Energy Regulatory Commission, Secretary of the Commission, 888 First Street, NE., Washington, DC 20426. Please refer to the Comment Procedures Section of the preamble for additional information on how to file paper comments.

FOR FURTHER INFORMATION CONTACT:

Michelle Veloso (Technical Information), Office of Enforcement, Federal Energy Regulatory Commission, 888 First Street, NE., Washington, DC 20426, (202) 502-8363.

Gary D. Cohen (Legal Information), Office of the General Counsel, Federal Energy Regulatory Commission, 888 First Street, NE., Washington, DC 20426, (202) 502-8321.

SUPPLEMENTARY INFORMATION:

Before Commissioners: Joseph T. Kelliher, Chairman; Suedeen G. Kelly, Marc Spitzer, Philip D. Moeller, and Jon Wellinghoff.

1. The Commission is proposing to revise the Electric Quarterly Report (EQR) Data Dictionary to clarify the requirement to report all ancillary service transactions and invites comment on this proposal.

2. This proposal is being made to reflect the Commission's decision in Order No. 697 that information about third party sales of ancillary services at market-based rates should be reported in EQR filings, rather than being reported on a separate OASIS-like Internet site. If adopted, this proposal will make reporting this information less burdensome and more accessible.

Background

3. On April 25, 2002, the Commission issued Order No. 2001, a Final Rule establishing revised public utility filing requirements.¹ This rule revised the Commission's filing requirements to require companies subject to the Commission's regulations under section 205 of the Federal Power Act² to file quarterly reports that: (1) Provide data identifying the utility on whose behalf the report is being filed (ID Data); (2) summarize pertinent data about the utility's currently effective contracts (Contract Data); and (3) summarize data about wholesale power sales the utility made during the reporting period (Transaction Data). The requirement to file EQRs replaced the requirement to file quarterly transaction reports summarizing a utility's market-based rate transactions and sales agreements that conformed to the utility's tariff.

¹ Revised Public Utility Filing Requirements, Order No. 2001, 67 FR 31043 (May 8, 2002), FERC Stats. & Regs. ¶31,127 (Apr. 25, 2002), reh'g denied, Order No. 2001-A, 100 FERC ¶61,074, reconsideration and clarification denied, Order No. 2001-B, 100 FERC ¶61,342, order directing filings, Order No. 2001-C, 101 FERC ¶61,314 (2002), Order No. 2001-D, order directing filings, 102 FERC ¶ 61,334, Order No. 2001-E, order refining filing requirements, 105 FERC ¶61,352 (2003), clarification order, Order No.2001-F, 106 FERC ¶61,060 (2004), order adopting EQR Data Dictionary, Order No. 2001-G, 120 FERC ¶61,270 (2007), order on reh'g and clarification, Order No. 2001-H, 121 FERC ¶61,289 (2007).

² 16 U.S.C. 824d.

4. In Order No. 2001, the Commission also adopted a new section in its regulations, 18 CFR 35.10b, which requires that the EQRs are to be prepared in conformance with the Commission's software and guidance posted and available from the Commission Web site. This obviates the need to revise 18 CFR 35.10b to implement revisions to the software and guidance. Since the issuance of Order No. 2001, as need has arisen, the Commission has issued orders to resolve questions raised by EQR users and has directed Staff to issue additional guidance.

5. On September 24, 2007, the Commission issued Order No. 2001-G, adopting an EQR Data Dictionary that collected in one document the definitions of certain terms and values used in filing EQR data (previously provided in Commission orders and in guidance materials posted at the Commission's Web site) and providing formal definitions for fields that were previously undefined. On December 20, 2007, the Commission issued Order No. 2001-H, which addressed a pending request for rehearing and clarifying the information to be reported in several EQR data fields.

6. On June 21, 2007, the Commission issued Order No. 697,³ a Final Rule that codified and, in certain respects, revised the Commission's standards for market-based rates for sales of electric energy, capacity, and ancillary services. The rule retained several of the core elements of the Commission's existing standards for granting market-based rates and revised them in certain respects. The rule also adopted a number of reforms to streamline the administration of the market-based rate program. Among other issues addressed in Order No. 697, the Commission addressed the posting and reporting requirements for third-party sellers of ancillary services at market-based rates.

³ Market-Based Rates for Wholesale Sales of Electric Energy, Capacity and Ancillary Services by Public Utilities, Order No. 697, 72 FR 39904 (July 20, 2007), FERC Stats. & Regs. ¶31,252 (June 21, 2007), clarifying order, 122 FERC ¶61,260 (2007).

7. This matter had previously been addressed in Avista Corporation, 87 FERC ¶61,223, order on reh'g, 89 FERC ¶61,136 (1999) (Avista), among other cases. Prior to the issuance of Order No. 697, Avista provided a general policy stating that third-party ancillary service providers that could not perform a market power study would be allowed to sell ancillary services at market-based rates, but only in conjunction with a requirement that such third parties establish an Internet-based, OASIS-like site for providing information about and transacting ancillary services. The authorization in Avista extended only to the following four ancillary services: Regulation Service, Energy Imbalance Service, Spinning Reserves, and Supplemental Reserves.

8. In Order No. 697, the Commission determined that it would modify its prior approach to the posting and reporting requirements for third-party sellers of ancillary services at market-based rates as announced in Avista. Specifically, the Commission agreed with comments arguing that the costs and responsibilities associated with establishing and maintaining an Internet-based site may outweigh the benefits that third-party sellers could derive from the sale of the additional products.

9. The Commission concluded that the Commission's EQR filing requirement provides an adequate means to monitor ancillary services sales by third parties such that the posting and reporting requirements established in Avista are no longer necessary.⁴ The Commission noted that, through their EQR filings, third-party providers of ancillary services provide information regarding their ancillary services transactions for each quarter, including the ancillary service or services provided, the price, and the purchaser. As a result, the Commission determined that it would no longer require third-party providers of ancillary services to establish and maintain an Internet-based OASIS-like site for providing information about their ancillary services transactions.⁵

⁴ Order No. 697 at P 1058.

⁵ Id.

10. Additionally, in Order No. 890, the Commission adopted a new Schedule 9 for the treatment of generator imbalances.⁶ In Order No. 2001-E, the Commission demonstrated its intention to match the ancillary service products included in the pro forma open access transmission tariff (OATT) by defining ancillary Product Names as they were defined in the OATT.⁷

⁶ Preventing Undue Discrimination and Preference in Transmission Service, Order No. 890, 72 FR 12266 (Mar. 15, 2007), FERC Stats. & Regs. ¶31,241 at P 668 (Feb. 16, 2007), order on reh'g, Order No. 890-A, 73 FR 2984 (Jan. 16, 2008), FERC Stats. and Regs. ¶31,261 (2007).

⁷ The Order No. 888 OATT ancillary services were Scheduling, System Control And Dispatch (Schedule 1), Reactive Supply And Voltage Control (Schedule 2), Regulation And Frequency Response (Schedule 3), Energy Imbalance (Schedule 4), Operating Reserve—Spinning—or Spinning Reserve—(Schedule 5), Operating Reserve—Supplemental—or Supplemental Reserve—(Schedule 6). These same services are now offered under the Order No. 890 pro forma OATT.

Discussion

11. The Commission's revised requirements for the posting and reporting requirements for third-party sellers of ancillary services at market-based rates in Order No. 697 depend on sellers reporting, in the EQRs, information previously required by Avista to be reported and posted on an OASIS-like Internet site. Therefore, in order to clarify the reporting requirements and to accommodate the reporting of ancillary service transactions, we propose to revise the Product Name definitions of the relevant ancillary services in Appendix A of the EQR Data Dictionary. The phrase “Reported for power sales and transmission-related transactions” will be added to the definitions for the four Product Names identified in Avista—Energy Imbalance, Regulation & Frequency Response, Spinning Reserve, Supplemental Reserve—to clarify that sales of these services must be reported both in the Contract and Transaction sections of the EQR. We invite comments on these proposed changes.

12. The Commission also proposes to add the Product Name “Generator Imbalance” to Appendix A of the EQR Data Dictionary to maintain consistency with the revised pro forma OATT.⁸ At this time, we are not proposing to add Product Names for ancillary services not explicitly identified in Order No. 890. We invite comments on whether there are other ancillary services beyond those identified in Order No. 890 that should be identified explicitly in the EQR.⁹ While the Commission does not intend to add defined Product Names for every kind of ancillary service offered by every company, there may be value to the public in identifying common or important offerings as such, rather than as the catchall “OTHER” in future EQRs.

⁸ Order No. 890, pro forma OATT at Schedule 9, provides that “Generator Imbalance Service is provided when a difference occurs between the output of a generator located in the Transmission Provider's Control Area and a delivery schedule from that generator to (1) another Control Area or (2) a load within the Transmission Provider's Control Area over a single hour.” Schedule 9 also prescribes how the charges for this service are to be developed.

⁹ For example, the Commission found that Dynamic Capacity and Energy Service as described in Avista is an ancillary service governed by Avista's ancillary service tariff. See Avista, 89 FERC ¶61,136 at 61,392.

Comment Procedures

13. The Commission invites interested persons to submit comments on the matters and issues proposed in this notice, including any related matters or alternative proposals that commenters may wish to discuss. Comments are due April 10, 2008. Comments must refer to Docket No. RM01-8-009, and must include the commenter's name, the organization they represent, if applicable, and their address. Comments may be filed either in electronic or paper format.

14. Comments may be filed electronically via the eFiling link on the Commission's Web site at http://www.ferc.gov. The Commission accepts most standard word processing formats and commenters may attach additional files with supporting information in certain other file formats. Commenters filing electronically do not need to make a paper filing. Commenters that are not able to file comments electronically must send an original and 14 copies of their comments to: Federal Energy Regulatory Commission, Secretary of the Commission, 888 First Street, NE., Washington, DC 20426.

15. All comments will be placed in the Commission's public files and may be viewed, printed, or downloaded remotely as described in the Document Availability section below. Commenters on this proposal are not required to serve copies of their comments on other commenters.

Document Availability

16. In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

17. From the Commission's Home Page on the Internet, this information is available in the eLibrary. The full text of this document is available in the eLibrary both in PDF and Microsoft Word format for viewing, printing, and/or downloading. To access this document in eLibrary, type the docket number excluding the last three digits of this document in the docket number field.

18. User assistance is available for eLibrary and the Commission's Web site during our normal business hours. For assistance contact FERC Online Support at FERCOnlineSupport@ferc.gov or toll-free at (866) 208-3676, or for TTY, contact (202) 502-8659.

By direction of the Commission.
Kimberly D. Bose,
Secretary.

Attachment A—Proposed Revisions to Electric Quarterly Report Data Dictionary Version 1.1 (issued December 21, 2007)

QR Data Dictionary—ID Data
Field No. | Field | Required | Value | Definition
1 | Filer Unique Identifier | ✓ | FR1 | (Respondent)—An identifier (i.e., “FR1”) used to designate a record containing Respondent identification information in a comma-delimited (csv) file that is imported into the EQR filing. Only one record with the FR1 identifier may be imported into an EQR for a given quarter.
1 | Filer Unique Identifier | ✓ | FS# (where “#” is an integer) | (Seller)—An identifier (e.g., “FS1”, “FS2”) used to designate a record containing Seller identification information in a comma-delimited (csv) file that is imported into the EQR filing. One record for each seller company may be imported into an EQR for a given quarter.
1 | Filer Unique Identifier | ✓ | FA1 | (Agent)—An identifier (i.e., “FA1”) used to designate a record containing Agent identification information in a comma-delimited (csv) file that is imported into the EQR filing. Only one record with the FA1 identifier may be imported into an EQR for a given quarter.
2 | Company Name | ✓ | Unrestricted text (100 characters) | (Respondent)—The name of the company taking responsibility for complying with the Commission's regulations related to the EQR.
2 | Company Name | ✓ | Unrestricted text (100 characters) | (Seller)—The name of the company that is authorized to make sales as indicated in the company's FERC tariff(s). This name may be the same as the Company Name of the Respondent.
2 | Company Name | ✓ | Unrestricted text (100 characters) | (Agent)—The name of the entity completing the EQR filing. The Agent's Company Name need not be the name of the company under Commission jurisdiction.
3 | Company DUNS Number | for Respondent and Seller | Nine digit number | The unique nine digit number assigned by Dun and Bradstreet to the company identified in Field Number 2.
4 | Contact Name | ✓ | Unrestricted text (50 characters) | (Respondent)—Name of the person at the Respondent's company taking responsibility for compliance with the Commission's EQR regulations.
4 | Contact Name | ✓ | Unrestricted text (50 characters) | (Seller)—The name of the contact for the company authorized to make sales as indicated in the company's FERC tariff(s). This name may be the same as the Contact Name of the Respondent.
4 | Contact Name | ✓ | Unrestricted text (50 characters) | (Agent)—Name of the contact for the Agent, usually the person who prepares the filing.
5 | Contact Title | ✓ | Unrestricted text (50 characters) | Title of contact identified in Field Number 4.
6 | Contact Address | ✓ | Unrestricted text | Street address for contact identified in Field Number 4.
7 | Contact City | ✓ | Unrestricted text (30 characters) | City for the contact identified in Field Number 4.
8 | Contact State | ✓ | Unrestricted text (2 characters) | Two character state or province abbreviations for the contact identified in Field Number 4.
9 | Contact Zip | ✓ | Unrestricted text (10 characters) | Zip code for the contact identified in Field Number 4.
10 | Contact Country Name | ✓ | CA-Canada MX-Mexico US-United States UK-United Kingdom | Country (USA, Canada, Mexico, or United Kingdom) for contact address identified in Field Number 4.
11 | Contact Phone | ✓ | Unrestricted text (20 characters) | Phone number of contact identified in Field Number 4.
12 | Contact E-Mail | ✓ | Unrestricted text | E-mail address of contact identified in Field Number 4.
13 | Filing Quarter | ✓ | YYYYMM | A six digit reference number used by the EQR software to indicate the quarter and year of the filing for the purpose of importing data from csv files. The first 4 numbers represent the year (e.g., 2007). The last 2 numbers represent the last month of the quarter (e.g., 03=1st quarter; 06=2nd quarter, 09=3rd quarter, 12=4th quarter).

QR Data Dictionary—Contract Data
Field No. | Field | Required | Value | Definition
14 | Contract Unique ID | ✓ | An integer proceeded by the letter “C” (only used when importing contract data) | An identifier beginning with the letter “C” and followed by a number (e.g., “C1”, “C2”) used to designate a record containing contract information in a comma-delimited (csv) file that is imported into the EQR filing. One record for each contract product may be imported into an EQR for a given quarter.
15 | Seller Company Name | ✓ | Unrestricted text (100 characters) | The name of the company that is authorized to make sales as indicated in the company's FERC tariff(s). This name must match the name provided as a Seller's “Company Name” in Field Number 2 of the ID Data (Seller Data).
16 | Customer Company Name | ✓ | Unrestricted text (70 characters) | The name of the counterparty.
17 | Customer DUNS Number | ✓ | Nine digit number | The unique nine digit number assigned by Dun and Bradstreet to the company identified in Field Number 16.
18 | Contract Affiliate | ✓ | Y (Yes) N (No) | The customer is an affiliate if it controls, is controlled by or is under common control with the seller. This includes a division that operates as a functional unit. A customer of a seller who is an Exempt Wholesale Generator may be defined as an affiliate under the Public Utility Holding Company Act and the FPA.
19 | FERC Tariff Reference | ✓ | Unrestricted text (60 characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
20 | Contract Service Agreement ID | ✓ | Unrestricted text (30 characters) | Unique identifier given to each service agreement that can be used by the filing company to produce the agreement, if requested. The identifier may be the number assigned by FERC for those service agreements that have been filed with and accepted by the Commission, or it may be generated as part of an internal identification system.
21 | Contract Execution Date | ✓ | YYYYMMDD | The date the contract was signed. If the parties signed on different dates, use the most recent date signed.
22 | Contract Commencement Date | ✓ | YYYYMMDD | The date the terms of the contract reported in the Contract Data section of the EQR were effective. If the terms reported in the EQR became effective or if service under those terms began on multiple dates (i.e.: due to an amendment), the date to be reported as the Commencement Date is the date when service began pursuant to the most recent amendment to the terms reported in the Contract Data section of the EQR.
23 | Contract Termination Date | If specified in the contract | YYYYMMDD | The date that the contract expires.
24 | Actual Termination Date Extension | If contract terminated | YYYYMMDD | The date the contract actually terminates.
25 | Provision Description | ✓ | Unrestricted text | Description of terms that provide for the continuation of the contract.
26 | Class Name | ✓ |  | See definitions of each class name below.
26 | Class Name | ✓ | F-Firm | For transmission sales, a service or product that always has priority over non-firm service. For power sales, a service or product that is not interruptible for economic reasons.
26 | Class Name | ✓ | NF—Non-firm | For transmission sales, a service that is reserved and/or scheduled on an as-available basis and is subject to curtailment or interruption at a lesser priority compared to Firm service. For an energy sale, a service or product for which delivery or receipt of the energy may be interrupted for any reason or no reason, without liability on the part of either the buyer or seller.
26 | Class Name | ✓ | UP—Unit Power Sale | Designates a dedicated sale of energy and capacity from one or more than one specified generation unit(s).
26 | Class Name | ✓ | N/A-Not Applicable | To be used only when the other available Class Names do not apply.
27 | Term Name | ✓ | LT-Long Term ST-Short Term N/A—Not Applicable | Contracts with durations of one year or greater are long-term. Contracts with shorter durations are short-term.
28 | Increment Name | ✓ |  | See definitions for each increment below.
28 | Increment Name | ✓ | H-Hourly | Terms of the contract (if specifically noted in the contract) set for up to 6 consecutive hours (≤ 6 consecutive hours).
28 | Increment Name | ✓ | D-Daily | Terms of the contract (if specifically noted in the contract) set for more than 6 and up to 60 consecutive hours (>6 and ≤ 60 consecutive hours).
28 | Increment Name | ✓ | W-Weekly | Terms of the contract (if specifically noted in the contract) set for over 60 consecutive hours and up to 168 consecutive hours (>60 and ≤ 168 consecutive hours).
28 | Increment Name | ✓ | M-Monthly | Terms of the contract (if specifically noted in the contract) set for more than 168 consecutive hours up to, but not including, one year (>168 consecutive hours and < 1 year).
28 | Increment Name | ✓ | Y-Yearly | Terms of the contract (if specifically noted in the contract) set for one year or more (≥ 1 year).
28 | Increment Name | ✓ | N/A-Not Applicable | Terms of the contract do not specify an increment.
29 | Increment Peaking Name | ✓ |  | See definitions for each increment peaking name below.
29 | Increment Peaking Name | ✓ | FP-Full Period | The product described may be sold during those hours designated as on-peak and off-peak in the NERC region of the point of delivery.
29 | Increment Peaking Name | ✓ | OP-Off-Peak | The product described may be sold only during those hours designated as off-peak in the NERC region of the point of delivery.
29 | Increment Peaking Name | ✓ | P-Peak | The product described may be sold only during those hours designated as on-peak in the NERC region of the point of delivery.
29 | Increment Peaking Name | ✓ | N/A-Not Applicable | To be used only when the increment peaking name is not specified in the contract.
30 | Product Type Name | ✓ |  | See definitions for each product type below.
30 | Product Type Name | ✓ | CB-Cost Based | Energy or capacity sold under a FERC-approved cost-based rate tariff.
30 | Product Type Name | ✓ | CR-Capacity Reassignment | An agreement under which a transmission provider sells, assigns or transfers all or portion of its rights to an eligible customer.
30 | Product Type Name | ✓ | MB-Market Based | Energy or capacity sold under the seller's FERC-approved market-based rate tariff.
30 | Product Type Name | ✓ | T-Transmission | The product is sold under a FERC-approved transmission ariff.
30 | Product Type Name | ✓ | Other | The product cannot be characterized by the other product type names.
31 | Product Name | ✓ | See Product Name Table, Appendix A. | Description of product being offered.
32 | Quantity | If specified in the contract | Number with up to 4 decimals | Quantity for the contract product identified.
33 | Units | If specified in the contract | See Units Table, Appendix E. | Measure stated in the contract for the product sold.
34 | Rate | One of four rate fields (34, 35, 36, or 37) must be included | Number with up to 4 decimals | The charge for the product per unit as stated in the contract.
35 | Rate Minimum | One of four rate fields (34, 35, 36, or 37) must be included | Number with up to 4 decimals | Minimum rate to be charged per the contract, if a range is specified.
36 | Rate Maximum | One of four rate fields (34, 35, 36, or 37) must be included | Number with up to 4 decimals | Maximum rate to be charged per the contract, if a range is specified.
37 | Rate Description | One of four rate fields (34, 35, 36, or 37) must be included | Unrestricted text | Text description of rate. If the rate is currently available on the FERC Web site, a citation of the FERC Accession Number and the relevant FERC tariff including page number or section may be included instead of providing the entire rate algorithm. If the rate is not available on the FERC Web site, include the rate algorithm, if rate is calculated. If the algorithm would exceed the 150 character field limit, it may be provided in a descriptive summary (including bases and methods of calculations) with a detailed citation of the relevant FERC tariff including page number and section. If more than 150 characters are required, the contract product may be repeated in a subsequent line of data until the rate is adequately described.
38 | Rate Units | If specified in the contract | See Rate Units Table, Appendix F | Measure stated in the contract for the product sold.
39 | Point of Receipt Balancing Authority (PORBA) | If specified in the contract | See Balancing Authority Table, Appendix B | The registered NERC Balancing Authority (formerly called NERC Control Area) where service begins for a transmission or transmission-related jurisdictional sale. The Balancing Authority will be identified with the abbreviation used in OASIS applications. If receipt occurs at a trading hub specified in the EQR software, the term “Hub” should be used.
40 | Point of Receipt Specific Location (PORSL) | If specified in the contract | Unrestricted text (50 characters). If “HUB” is selected for PORCA, see Hub Table, Appendix C | The specific location at which the product is received if designated in the contract. If receipt occurs at a trading hub, a standardized hub name must be used. If more points of receipt are listed in the contract than can fit into the 50 character space, a description of the collection of points may be used. ‘Various,' alone, is unacceptable unless the contract itself uses that terminology.
41 | Point of Delivery Balancing Authority(PODBA) | If specified in the contract | See Balancing Authority Table, Appendix B | The registered NERC Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub specified in the EQR software, the term “Hub” should be used.
42 | Point of Delivery Specific Location (PODSL) | If specified in the contract | Unrestricted text (50 characters). If “HUB” is selected for PODCA, see Hub Table, Appendix C | The specific location at which the product is delivered if designated in the contract. If receipt occurs at a trading hub, a standardized hub name must be used.
43 | Begin Date | If specified in the contract | YYYYMMDDHHMM | First date for the sale of the product at the rate specified.
44 | End Date | If specified in the contract | YYYYMMDDHHMM | Last date for the sale of the product at the rate specified.
45 | Time Zone | ✓ | See Time Zone Table, Appendix D | The time zone in which the sales will be made under the contract.

QR Data Dictionary—Transaction Data
Field No. | Field | Required | Value | Definition
46 | Transaction Unique ID | ✓ | An integer proceeded by the letter “T” (only used when importing transaction data) | An identifier beginning with the letter “T” and followed by a number (e.g., “T1”, “T2”) used to designate a record containing transaction information in a comma-delimited (csv) file that is imported into the EQR filing. One record for each transaction record may be imported into an EQR for a given quarter. A new transaction record must be used every time a price changes in a sale.
47 | Seller Company Name | ✓ | Unrestricted text (100 Characters) | The name of the company that is authorized to make sales as indicated in the company's FERC tariff(s). This name must match the name provided as a Seller's “Company Name” in Field 2 of the ID Data (Seller Data).
48 | Customer Company Name | ✓ | Unrestricted text (70 Characters) | The name of the counterparty.
49 | Customer DUNS Number | ✓ | Nine digit number | The unique nine digit number assigned by Dun and Bradstreet to the counterparty to the contract.
50 | FERC Tariff Reference | ✓ | Unrestricted text (60 Characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
51 | Contract Service Agreement ID | ✓ | Unrestricted text (30 Characters) | Unique identifier given to each service agreement that can be used by the filing company to produce the agreement, if requested. The identifier may be the number assigned by FERC for those service agreements that have been filed and approved by the Commission, or it may be generated as part of an internal identification system.
52 | Transaction Unique Identifier | ✓ | Unrestricted text (24 Characters) | Unique reference number assigned by the seller for each transaction.
53 | Transaction Begin Date | ✓ | YYYYMMDDHHMM (csv import) MMDDYYYYHHMM (manual entry) | First date and time the product is sold during the quarter.
54 | Transaction End Date | ✓ | YYYYMMDDHHMM (csv import) MMDDYYYYHHMM (manual entry) | Last date and time the product is sold during the quarter.
55 | Time Zone | ✓ | See Time Zone Table, Appendix D | The time zone in which the sales will be made under the contract.
56 | Point of Delivery Balancing Authority (PODBA) | ✓ | See Balancing Authority Table, Appendix B | The registered NERC Balancing Authority (formerly called NERC Control Area) abbreviation used in OASIS applications.
57 | Point of Delivery Specific Location (PODSL) | ✓ | Unrestricted text (50 characters). If “HUB” is selected for PODBA, see Hub Table, Appendix C | The specific location at which the product is delivered. If receipt occurs at a trading hub, a standardized hub name must be used.
58 | Class Name | ✓ |  | See class name definitions below.
58 | Class Name | ✓ | F-Firm | A sale, service or product that is not interruptible for economic reasons.
58 | Class Name | ✓ | NF-Non-firm | A sale for which delivery or receipt of the energy may be interrupted for any reason or no reason, without liability on the part of either the buyer or seller.
58 | Class Name | ✓ | UP-Unit Power Sale | Designates a dedicated sale of energy and capacity from one or more than one specified generation unit(s).
58 | Class Name | ✓ | BA-Billing Adjustment | Designates an incremental material change to one or more transactions due to a change in settlement results. “BA” may be used in a refiling after the next quarter's filing is due to reflect the receipt of new information. It may not be used to correct an inaccurate filing.
58 | Class Name | ✓ | N/A-Not Applicable | To be used only when the other available class names do not apply.
59 | Term Name | ✓ | LT-Long Term ST—Short Term N/A-Not Applicable | Power sales transactions with durations of one year or greater are long-term. Transactions with shorter durations are short-term.
60 | Increment Name | ✓ |  | See increment name definitions below.
60 | Increment Name | ✓ | H-Hourly | Terms of the particular sale set for up to 6 consecutive hours (≤ 6 consecutive hours) Includes LMP based sales in ISO/RTO markets.
60 | Increment Name | ✓ | D-Daily | Terms of the particular sale set for more than 6 and up to 60 consecutive hours (>6 and ≤ 60 consecutive hours) Includes sales over a peak or off-peak block during a single day.
60 | Increment Name | ✓ | W-Weekly | Terms of the particular sale set for over 60 consecutive hours and up to 168 consecutive hours (>60 and ≤ 168 consecutive hours). Includes sales for a full week and sales for peak and off-peak blocks over a particular week.
60 | Increment Name | ✓ | M-Monthly | Terms of the particular sale set for set for more than 168 consecutive hours up to, but not including, one year (>168 consecutive hours and < 1 year). Includes sales for full month or multi-week sales during a given month.
60 | Increment Name | ✓ | Y-Yearly | Terms of the particular sale set for one year or more (≥ 1 year). Includes all long-term contracts with defined pricing terms (fixed-price, formula, or index).
60 | Increment Name | ✓ | N/A-Not Applicable | To be used only when other available increment names do not apply.
61 | Increment Peaking Name | ✓ |  | See definitions for increment peaking below.
61 | Increment Peaking Name | ✓ | FP-Full Period | The product described was sold during Peak and Off-Peak hours.
61 | Increment Peaking Name | ✓ | OP-Off-Peak | The product described was sold only during those hours designated as off-peak in the NERC region of the point of delivery.
61 | Increment Peaking Name | ✓ | P-Peak | The product described was sold only during those hours designated as on-peak in the NERC region of the point of delivery.
61 | Increment Peaking Name | ✓ | N/A-Not Applicable | To be used only when the other available increment peaking names do not apply.
62 | Product Name | ✓ | See Product Names Table, Appendix A | Description of product being offered.
63 | Transaction Quantity | ✓ | Number with up to 4 decimals | The quantity of the product in this transaction.
64 | Price | ✓ | Number with up to 6 decimals | Actual price charged for the product per unit. The price reported cannot be averaged or otherwise aggregated.
65 | Rate Units | ✓ | See Rate Units Table, Appendix F | Measure appropriate to the price of the product sold.
66 | Total Transmission Charge | ✓ | Number with up to 2 decimals | Payments received for transmission services when explicitly identified.
67 | Total Transaction Charge | ✓ | Number with up to 2 decimals | Transaction Quantity (Field 63) times Price (Field 64) plus Total Transmission Charge (Field 66).

QR Data Dictionary—Appendix A. Product Names
Product name | Contract product | Transaction product | Definition
BLACK START SERVICE | ✓ | ✓ | Service available after a system-wide blackout where a generator participates in system restoration activities without the availability of an outside electric supply (Ancillary Service).
BOOKED OUT POWER |  | ✓ | Energy or capacity contractually committed bilaterally for delivery but not actually delivered due to some offsetting or countervailing trade (Transaction only).
CAPACITY | ✓ | ✓ | A quantity of demand that is charged on a $/KW or $/MW basis.
CUSTOMER CHARGE | ✓ | ✓ | Fixed contractual charges assessed on a per customer basis that could include billing service.
DIRECT ASSIGNMENT FACILITIES CHARGE | ✓ |  | Charges for facilities or portions of facilities that are constructed or used for the sole use/benefit of a particular customer.
EMERGENCY ENERGY | ✓ |  | Contractual provisions to supply energy or capacity to another entity during critical situations.
ENERGY | ✓ | ✓ | A quantity of electricity that is sold or transmitted over a period of time.
ENERGY IMBALANCE | ✓ | ✓ | Service provided when a difference occurs between the scheduled and the actual delivery of energy to a load obligation. Reported for power sales and transmission-related transactions.
EXCHANGE | ✓ | ✓ | Transaction whereby the receiver accepts delivery of energy for a supplier's account and returns energy at times, rates, and in amounts as mutually agreed if the receiver is not an RTO/ISO.
FUEL CHARGE | ✓ | ✓ | Charge based on the cost or amount of fuel used for generation.
GENERATOR IMBALANCE | ✓ | ✓ | Service provided when a difference occurs between the output of a generator located in the Transmission Provider's Control Area and a delivery schedule from that generator to (1) another Control Area or (2) a load within the Transmission Provider's Control Area over a single hour. Reported for power sales and transmission-related transactions.
GRANDFATHERED BUNDLED | ✓ | ✓ | Services provided for bundled transmission, ancillary services and energy under contracts effective prior to Order No. 888's OATTs.
INTERCONNECTION AGREEMENT | ✓ |  | Contract that provides the terms and conditions for a generator, distribution system owner, transmission owner, transmission provider, or transmission system to physically connect to a transmission system or distribution system.
MEMBERSHIP AGREEMENT | ✓ |  | Agreement to participate and be subject to rules of a system operator.
MUST RUN AGREEMENT | ✓ |  | An agreement that requires a unit to run.
NEGOTIATED-RATE TRANSMISSION | ✓ | ✓ | Transmission performed under a negotiated rate contract (applies only to merchant transmission companies).
NETWORK | ✓ |  | Transmission service under contract providing network service.
NETWORK OPERATING AGREEMENT | ✓ |  | An executed agreement that contains the terms and conditions under which a network customer operates its facilities and the technical and operational matters associated with the implementation of network integration transmission service.
OTHER | ✓ | ✓ | Product name not otherwise included.
POINT-TO-POINT AGREEMENT | ✓ |  | Transmission service under contract between specified Points of Receipt and Delivery.
REACTIVE SUPPLY & VOLTAGE CONTROL | ✓ | ✓ | Production or absorption of reactive power to maintain voltage levels on transmission systems (Ancillary Service).
REAL POWER TRANSMISSION LOSS | ✓ | ✓ | The loss of energy, resulting from transporting power over a transmission system.
REGULATION & FREQUENCY RESPONSE | ✓ | ✓ | Service providing for continuous balancing of resources (generation and interchange) with load, and for maintaining scheduled interconnection frequency by committing on-line generation where output is raised or lowered and by other non-generation resources capable of providing this service as necessary to follow the moment-by-moment changes in load (Ancillary Service). Reported for power sales and transmission-related transactions.
REQUIREMENTS SERVICE | ✓ | ✓ | Firm, load-following power supply necessary to serve a specified share of customer's aggregate load during the term of the agreement. Requirements service may include some or all of the energy, capacity and ancillary service products. (If the components of the requirements service are priced separately, they should be reported separately in the transactions tab.)
SCHEDULE SYSTEM CONTROL & DISPATCH | ✓ | ✓ | Scheduling, confirming and implementing an interchange schedule with other Balancing Authorities, including intermediary Balancing Authorities providing transmission service, and ensuring operational security during the interchange transaction (Ancillary Service).
SPINNING RESERVE | ✓ | ✓ | Unloaded synchronized generating capacity that is immediately responsive to system frequency and that is capable of being loaded in a short time period or non-generation resources capable of providing this service (Ancillary Service). Reported for power sales and transmission-related transactions.
SUPPLEMENTAL RESERVE | ✓ | ✓ | Service needed to serve load in the event of a system contingency, available with greater delay than SPINNING RESERVE. This service may be provided by generating units that are on-line but unloaded, by quick-start generation, or by interruptible load or other non-generation resources capable of providing this service (Ancillary Service). Reported for power sales and transmission-related transactions.
SYSTEM OPERATING AGREEMENTS | ✓ |  | An executed agreement that contains the terms and conditions under which a system or network customer shall operate its facilities and the technical and operational matters associated with the implementation of network.
TOLLING ENERGY | ✓ | ✓ | Energy sold from a plant whereby the buyer provides fuel to a generator (seller) and receives power in return for pre-established fees.
TRANSMISSION OWNERS AGREEMENT | ✓ |  | The agreement that establishes the terms and conditions under which a transmission owner transfers operational control over designated transmission facilities.
UPLIFT | ✓ | ✓ | A make-whole payment by an RTO/ISO to a utility.

QR Data Dictionary—Appendix B. Balancing Authority
Balancing authority | Abbreviation | Outside US *
AESC, LLC—Wheatland CIN | AEWC |
Alabama Electric Cooperative, Inc | AEC |
Alberta Electric System Operator | AESO | ✓
Alliant Energy Corporate Services, LLC—East | ALTE |
Alliant Energy Corporate Services, LLC—West | ALTW |
Ameren Transmission | AMRN |
Ameren Transmission. Illinois | AMIL |
Ameren Transmission. Missouri | AMMO |
American Transmission Systems, Inc | FE |
Aquila Networks—Kansas | WPEK |
Aquila Networks—Missouri Public Service | MPS |
Aquila Networks—West Plains Dispatch | WPEC |
Arizona Public Service Company | AZPS |
Associated Electric Cooperative, Inc | AECI |
Avista Corp | AVA |
Batesville Balancing Authority | BBA |
Big Rivers Electric Corp | BREC |
Board of Public Utilities | KACY |
Bonneville Power Administration Transmission | BPAT |
British Columbia Transmission Corporation | BCTC | ✓
California Independent System Operator | CISO |
Carolina Power & Light Company—CPLW | CPLW |
Carolina Power and Light Company—East | CPLE |
Central and Southwest | CSWS |
Central Illinois Light Co | CILC |
Chelan County PUD | CHPD |
Cinergy Corporation | CIN |
City of Homestead | HST |
City of Independence P&L Dept | INDN |
City of Tallahassee | TAL |
City Water Light & Power | CWLP |
Cleco Power LLC | CLEC |
Columbia Water & Light | CWLD |
Comision Federal de Electricidad | CFE | ✓
Constellation Energy Control and Dispatch—Arkansas | PUPP |
Constellation Energy Control and Dispatch—City of Benton, AR | BUBA |
Constellation Energy Control and Dispatch—City of Ruston, LA | DERS |
Constellation Energy Control and Dispatch—Conway, Arkansas | CNWY |
Constellation Energy Control and Dispatch—Gila River | GRMA |
Constellation Energy Control and Dispatch—Harquehala | HGMA |
Constellation Energy Control and Dispatch—North Little Rock, AK | DENL |
Constellation Energy Control and Dispatch—West Memphis, Arkansas | WMUC |
Dairyland Power Cooperative | DPC |
DECA, LLC—Arlington Valley | DEAA |
Duke Energy Corporation | DUK |
East Kentucky Power Cooperative, Inc | EKPC |
El Paso Electric | EPE |
Electric Energy, Inc | EEI |
Empire District Electric Co., The | EDE |
Entergy | EES |
ERCOT ISO | ERCO |
Florida Municipal Power Pool | FMPP |
Florida Power & Light | FPL |
Florida Power Corporation | FPC |
Gainesville Regional Utilities | GVL |
Georgia System Operations Corporation | GSOC |
Georgia Transmission Corporation | GTC |
Grand River Dam Authority | GRDA |
Grant County PUD No. 2 | GCPD |
Great River Energy | GRE |
Great River Energy | GREC |
Great River Energy | GREN |
Great River Energy | GRES |
GridAmerica | GA |
Hoosier Energy | HE |
Hydro-Quebec, TransEnergie | HQT | ✓
Idaho Power Company | IPCO |
Illinois Power Co | IP |
Illinois Power Co | IPRV |
Imperial Irrigation District | IID |
Indianapolis Power & Light Company | IPL |
ISO New England Inc | ISNE |
JEA | JEA |
Kansas City Power & Light, Co | KCPL |
Lafayette Utilities System | LAFA |
LG&E Energy Transmission Services | LGEE |
Lincoln Electric System | LES |
Los Angeles Department of Water and Power | LDWP |
Louisiana Energy & Power Authority | LEPA |
Louisiana Generating, LLC | LAGN |
Madison Gas and Electric Company | MGE |
Manitoba Hydro Electric Board, Transmission Services | MHEB | ✓
Michigan Electric Coordinated System | MECS |
Michigan Electric Coordinated System—CONS | CONS |
Michigan Electric Coordinated System—DECO | DECO |
MidAmerican Energy Company | MEC |
Midwest ISO | MISO |
Minnesota Power, Inc | MP |
Montana-Dakota Utilities Co | MDU |
Muscatine Power and Water | MPW |
Nebraska Public Power District | NPPD |
Nevada Power Company | NEVP |
New Brunswick Power Corporation | NBPC | ✓
New Horizons Electric Cooperative | NHC1 |
New York Independent System Operator | NYIS |
North American Electric Reliability Council | TEST |
Northern Indiana Public Service Company | NIPS |
Northern States Power Company | NSP |
NorthWestern Energy | NWMT |
Ohio Valley Electric Corporation | OVEC |
Oklahoma Gas and Electric | OKGE |
Ontario—Independent Electricity Market Operator | IMO | ✓
OPPD CA/TP | OPPD |
Otter Tail Power Company | OTP |
P.U.D. No. 1 of Douglas County | DOPD |
PacifiCorp—East | PACE |
PacifiCorp—West | PACW |
PJM Interconnection | PJM |
Portland General Electric | PGE |
Public Service Company of Colorado | PSCO |
Public Service Company of New Mexico | PNM |
Puget Sound Energy Transmission | PSEI |
Reedy Creek Improvement District | RC |
Sacramento Municipal Utility District | SMUD |
Salt River Project | SRP |
Santee Cooper | SC |
SaskPower Grid Control Centre | SPC | ✓
Seattle City Light | SCL |
Seminole Electric Cooperative | SEC |
Sierra Pacific Power Co.—Transmission | SPPC |
South Carolina Electric & Gas Company | SCEG |
South Mississippi Electric Power Association | SME |
South Mississippi Electric Power Association | SMEE |
Southeastern Power Administration—Hartwell | SEHA |
Southeastern Power Administration—Russell | SERU |
Southeastern Power Administration—Thurmond | SETH |
Southern Company Services, Inc | SOCO |
Southern Illinois Power Cooperative | SIPC |
Southern Indiana Gas & Electric Co | SIGE |
Southern Minnesota Municipal Power Agency | SMP |
Southwest Power Pool | SWPP |
Southwestern Power Administration | SPA |
Southwestern Public Service Company | SPS |
Sunflower Electric Power Corporation | SECI |
Tacoma Power | TPWR |
Tampa Electric Company | TEC |
Tennessee Valley Authority ESO | TVA |
Trading Hub | HUB |
TRANSLink Management Company | TLKN |
Tucson Electric Power Company | TEPC |
Turlock Irrigation District | TIDC |
Upper Peninsula Power Co | UPPC |
Utilities Commission, City of New Smyrna Beach | NSB |
Westar Energy—MoPEP Cities | MOWR |
Western Area Power Administration—Colorado-Missouri | WACM |
Western Area Power Administration—Lower Colorado | WALC |
Western Area Power Administration—Upper Great Plains East | WAUE |
Western Area Power Administration—Upper Great Plains West | WAUW |
Western Farmers Electric Cooperative | WFEC |
Western Resources dba Westar Energy | WR |
Wisconsin Energy Corporation | WEC |
Wisconsin Public Service Corporation | WPS |
Yadkin, Inc | YAD |
* Balancing authorities outside the United States may only be used in the Contract Data section to identify specified receipt/delivery points in jurisdictional transmission contracts.

QR Data Dictionary—Appendix C. Hub
HUB | Definition
ADHUB | The aggregated Locational Marginal Price (“LMP”) nodes defined by PJM Interconnection, LLC as the AEP/Dayton Hub.
AEPGenHub | The aggregated Locational Marginal Price (“LMP”) nodes defined by PJM Interconnection, LLC as the AEPGenHub.
COB | The set of delivery points along the California-Oregon commonly identified as and agreed to by the counterparties to constitute the COB Hub.
Cinergy (into) | The set of delivery points commonly identified as and agreed to by the counterparties to constitute delivery into the Cinergy balancing authority.
Cinergy Hub (MISO) | The aggregated Elemental Pricing nodes (“Epnodes”) defined by the Midwest Independent Transmission System Operator, Inc., as Cinergy Hub (MISO).
Entergy (into) | The set of delivery points commonly identified as and agreed to by the counterparties to constitute delivery into the Entergy balancing authority.
FE Hub | The aggregated Elemental Pricing nodes (“Epnodes”) defined by the Midwest Independent Transmission System Operator, Inc., as FE Hub (MISO).
Four Corners | The set of delivery points at the Four Corners power plant commonly identified as and agreed to by the counterparties to constitute the Four Corners Hub.
Illinois Hub (MISO) | The aggregated Elemental Pricing nodes (“Epnodes”) defined by the Midwest Independent Transmission System Operator, Inc., as Illinois Hub (MISO).
Mead | The set of delivery points at or near Hoover Dam commonly identified as and agreed to by the counterparties to constitute the Mead Hub.
Michigan Hub (MISO) | The aggregated Elemental Pricing nodes (“Epnodes”) defined by the Midwest Independent Transmission System Operator, Inc., as Michigan Hub (MISO).
Mid-Columbia (Mid-C) | The set of delivery points along the Columbia River commonly identified as and agreed to by the counterparties to constitute the Mid-Columbia Hub.
Minnesota Hub (MISO) | The aggregated Elemental Pricing nodes (“Epnodes”) defined by the Midwest Independent Transmission System Operator, Inc., as Minnesota Hub (MISO).
NEPOOL (Mass Hub) | The aggregated Locational Marginal Price (“LMP”) defined by ISO New England Inc., as Mass Hub.
NIHUB | The aggregated Locational Marginal Price (“LMP”) defined by PJM Interconnection, LLC as the Northern Illinois Hub.
NOB | The set of delivery points along the Nevada-Oregon border commonly identified as and agreed to by the counterparties to constitute the NOB Hub.
NP15 | The set of delivery points north of Path 15 on the California transmission grid commonly identified as and agreed to by the counterparties to constitute the NP15 Hub.
NWMT | The set of delivery points commonly identified as and agreed to by the counterparties to constitute delivery into the Northwestern Energy Montana balancing authority.
PJM East Hub | The aggregated Locational Marginal Price nodes (“LMP”) defined by PJM Interconnection, LLC as the PJM East Hub.
PJM South Hub | The aggregated Locational Marginal Price (“LMP”) defined by PJM Interconnection, LLC as the PJM South Hub.
PJM West Hub | The aggregated Locational Marginal Price (“LMP”) defined by PJM Interconnection, LLC as the PJM Western Hub.
Palo Verde | The switch yard at the Palo Verde nuclear power station west of Phoenix in Arizona. Palo Verde Hub includes the Hassayampa switchyard 2 miles south of Palo Verde.
SOCO (into) | The set of delivery points commonly identified as and agreed to by the counterparties to constitute delivery into the Southern Company balancing authority.
SP15 | The set of delivery points south of Path 15 on the California transmission grid commonly identified as and agreed to by the counterparties to constitute the SP15 Hub.
TVA (into) | The set of delivery points commonly identified as and agreed to by the counterparties to constitute delivery into the Tennessee Valley Authority balancing authority.
ZP26 | The set of delivery points associated with Path 26 on the California transmission grid commonly identified as and agreed to by the counterparties to constitute the ZP26 Hub.

QR Data Dictionary—Appendix D. Time Zone
Time zone | Definition
AD | Atlantic Daylight.
AP | Atlantic Prevailing.
AS | Atlantic Standard.
CD | Central Daylight.
CP | Central Prevailing.
CS | Central Standard.
ED | Eastern Daylight.
EP | Eastern Prevailing.
ES | Eastern Standard.
MD | Mountain Daylight.
MP | Mountain Prevailing.
MS | Mountain Standard.
NA | Not Applicable.
PD | Pacific Daylight.
PP | Pacific Prevailing.
PS | Pacific Standard.
UT | Universal Time.

QR Data Dictionary—Appendix E. Units
Units | Definition
KV | Kilovolt.
KVA | Kilovolt Amperes.
KVR | Kilovar.
KW | Kilowatt.
KWH | Kilowatt Hour.
KW-DAY | Kilowatt Day.
KW-MO | Kilowatt Month.
KW-WK | Kilowatt Week.
KW-YR | Kilowatt Year.
MVAR-YR | Megavar Year.
MW | Megawatt.
MWH | Megawatt Hour.
MW-DAY | Megawatt Day.
MW-MO | Megawatt Month.
MW-WK | Megawatt Week.
MW-YR | Megawatt Year.
RKVA | Reactive Kilovolt Amperes.
FLAT RATE | Flat Rate.

QR Data Dictionary—Appendix F. Rate Units
Rate units | Definition
$/KV | dollars per kilovolt.
$/KVA | dollars per kilovolt amperes.
$/KVR | dollars per kilovar.
$/KW | dollars per kilowatt.
$/KWH | dollars per kilowatt hour.
$/KW-DAY | dollars per kilowatt day.
$/KW-MO | dollars per kilowatt month.
$/KW-WK | dollars per kilowatt week.
$/KW-YR | dollars per kilowatt year.
$/MW | dollars per megawatt.
$/MWH | dollars per megawatt hour.
$/MW-DAY | dollars per megawatt day.
$/MW-MO | dollars per megawatt month.
$/MW-WK | dollars per megawatt week.
$/MW-YR | dollars per megawatt year.
$/MVAR-YR | dollars per megavar year.
$/RKVA | dollars per reactive kilovar amperes.
CENTS | cents.
CENTS/KVR | cents per kilovolt amperes.
CENTS/KWH | cents per kilowatt hour.
FLAT RATE | rate not specified in any other units.

[FR Doc. E8-4753 Filed 3-10-08; 8:45 am]

BILLING CODE 6717-01-P